DEPARTMENT OF STATE

[Public Notice: 11695]

Determination Under Section 552(c)(2) of the Foreign Assistance Act of 1961 To Provide Commodities and Services for Assistance to Ukraine

Pursuant to the authority vested in me by section 552(c)(2) of the Foreign Assistance Act of 1961 (the “Act”) (22 U.S.C. 2348a(c)(2)), and Presidential Delegation of Authority dated March 16, 2022, I hereby determine that, as a result of an unforeseen emergency, the immediate provision of assistance under chapter 6 of part II of the FAA in amounts in excess of the funds otherwise available for such assistance is important to the national interests of the United States.

I, therefore, pursuant to authority delegated to me by the President, direct the drawdown of up to $10 million in commodities and services from the inventory and resources of any United States government agency to provide assistance to Ukraine under the authority of section 552(c)(2) of the Act. The Department of State will coordinate implementation of this drawdown.

This determination shall be reported to the Congress and published in the Federal Register.

Dated: March 16, 2022.
Antony J. Blinken,
Secretary of State.

[FR Doc. 2022-06747 Filed 3-30-22; 8:45 am]

BILLING CODE 4710-25-P